DEPARTMENT OF LABOR

Employment and Training Administration

[TA-W-65,311]

Caterpillar, Inc., Large Power Systems Division, Mossville, IL; Notice of Termination of Investigation

Pursuant to Section 221 of the Trade Act of 1974, as amended, an investigation was initiated on February 19, 2009 in response to a petition filed by the United Automobile, Agricultural Implement Workers of America International Union, Local 974 on behalf of workers of Caterpillar, Inc., Large Power Systems Division, Mossville, Illinois.

The petitioner has requested that the petition be withdrawn. Therefore, the investigation under this petition has been terminated.

Signed at Washington, DC, this 13th day of April 2009.
Linda G. Poole,
Certifying Officer, Division of Trade Adjustment Assistance.

[FR Doc. E9-10870 Filed 5-8-09; 8:45 am]

BILLING CODE 4510-FN-P